DEPARTMENT OF TRANSPORTATION

Federal Aviation Administration

Public Notice for Waiver of Aeronautical Land-Use Assurance; Gerald R. Ford International Airport, Grand Rapids, MI

AGENCY: Federal Aviation Administration, DOT.

ACTION: Notice of intent of waiver with respect to land.

SUMMARY: The Federal Aviation Administration (FAA) is considering a proposal to change a portion of the airport from aeronautical use to non-aeronautical use and to authorize the lease of the airport property. The proposal consists of 2 parcels of land with the lease portion totaling approximately 5.4 acres. Current use and present condition is partially developed land compatible with local commercial/industrial zoning classification. The land was acquired under the FAA Project Numbers 9-20-072-6001, 3-26-0039-02, and 3-26-0055-44208. There are no impacts to the airport by allowing the airport to lease the property, since the land is no longer needed for aeronautical use. Subject land will provide for the development and expansion of the west Michigan Aviation Academy (WMAA); and through its lease would result in generating a predictable long-term revenue stream for the airport. Approval does not constitute a commitment by the FAA to financially assist in the disposal of the subject airport property nor a determination of eligibility for grant-in-aid funding from the FAA. The disposition of proceeds from the lease of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before February 17, 2012.

ADDRESSES: Documents reflecting this FAA action may be reviewed at the Detroit Airports District Office.

FOR FURTHER INFORMATION CONTACT: Marlon Pena, Program Manager, Detroit Airports District Office, Federal Aviation Administration, 11677 South Wayne Road, Romulus, Michigan 48174. Telephone Number (734) 229-2909 Fax Number (734) 229-2950. Documents reflecting this FAA action may be reviewed at this same location or at Gerald R. Ford International Airport, Grand Rapids, Michigan.

SUPPLEMENTARY INFORMATION: Following is a legal description of the property located in Grand Rapids, Kent County, Michigan, and described as follows:

Parcel 23 Description

The south 96 acres of the southeast ¼, except the south 858 feet of the west 812.50 feet and except the south 183 feet of the east 100 feet of the west 912.50 feet. Also, except that part of the remainder lying westerly of a line commencing 858 feet north and 73 feet east of the south one-quarter corner and extended northwesterly in a straight line to center of section, Section 19, Township 6 North, Range 10 West, Kent County, Michigan.

Parcel 24 Description

All that part of Section 19, Township 6 North, Range 10 West, Kent County, Michigan, described as follows: Commencing at a point 812.50 feet east of the southwest corner of the southeast ¼ of said Section 19, thence north 183 feet, thence east 100 feet, thence south 183 feet, thence west 100 feet to the point of beginning.

Lease Description (5.40 Acres)

That part of the Southeast ¼, Section 19, T6N, R10W, City of Grand Rapids, Kent County, Michigan, described as: Commencing at the South ¼ corner of said Section; thence N89°40′32″ E 788.16 feet along the South line of said Section; thence perpendicular to said South line N01°07′28″ W 607.00 feet; thence N64°31′06″ E 347.80 feet; thence S49°50′22″ E 30.47 feet to the Point of Beginning; thence S49°50′22″ E 424.98 feet; thence Southwesterly 61.25 feet along a 158.36 foot radius curve to the right, said curve having a central angle of 22°09′40″, and a chord bearing S32°17′33″ W 60.87 feet; thence S48°53′40″ W 241.86 feet; thence Southwesterly 210.52 feet along a 402.51 foot radius curve to the right, said curve having a central angle of 29°57′59″, and a chord bearing S62°49′41” W 208.13 feet; thence S77°48′40″ W 115.40 feet; thence N49°52′31″ W 49.80 feet; thence S37°27′16″ W 46.94 feet; thence N52°32′44″ W 59.81 feet; thence N00°49′48″ W 104.01 feet; thence Northeasterly 551.88 feet along a 500.00 foot radius curve to the right, said curve having a central angle of 63°14′29″, and a chord bearing N30°47′27″ E 524.29 feet; thence N62°24′41″ E 39.65 feet to the Point of Beginning. Containing 5.40 acres more or less.

Issued in Romulus, Michigan, on December 13, 2011.
John L. Mayfield, Jr.,
Manager, Detroit Airports District Office FAA, Great Lakes Region.

[FR Doc. 2012-800 Filed 1-17-12; 8:45 am]

BILLING CODE P